NUCLEAR REGULATORY COMMISSION

[NRC-2011-0254]

Common-Cause Failure Analysis in Event and Condition Assessment: Guidance and Research, Draft Report for Comment; Correction

AGENCY: Nuclear Regulatory Commission.

ACTION: Draft NUREG; request for comment; correction.

SUMMARY: This document corrects a notice appearing in the Federal Register on November 2, 2011 (76 FR 67764). This action is necessary to correct an erroneous date for submission of comments.

FOR FURTHER INFORMATION CONTACT: Cindy Bladey, Chief, Rules, Announcements, and Directives Branch, Office of Administration, Nuclear Regulatory Commission, Washington, DC 20555-0001, telephone: (301) 492-3667; email: Cindy.Bladey@nrc.gov.

SUPPLEMENTARY INFORMATION: On page 67765, in the first column, in the DATES: section, the date is changed from “January 31, 2011,” to read “January 31, 2012.”

Dated at Rockville, Maryland, this 8th day of November 2011.
For the Nuclear Regulatory Commission.
Cindy Bladey,
Liaison Officer.

[FR Doc. 2011-29436 Filed 11-14-11; 8:45 am]

BILLING CODE 7590-01-P